DEPARTMENT OF VETERANS AFFAIRS

Notice of Funds Availability Inviting Applications for Grants for Transportation of Veterans in Highly Rural Areas; Amendment

AGENCY: Department of Veterans Affairs.

ACTION: Notice; extension of NOFA application deadline.

SUMMARY: This notice extends the Department of Veterans Affairs (VA) application deadline for funds available under the Grant Program for Transportation of Veterans in Highly Rural Areas. VA published a Notice of Funds Availability (NOFA) in the Federal Register on July 9, 2013 (78 FR 41195), to announce the availability of funds for applications through September 9, 2013, 4:00 p.m. eastern standard time. The NOFA includes funding priorities for those applicants who, through innovative transportation services, will assist Veterans in highly rural areas travel to VA medical centers and other VA and non-VA facilities in connection with the provision of VA medical care. To allow applicants more time to complete the application process, VA is extending the application deadline to midnight eastern standard time on October 9, 2013. VA will consider all applications received up through the original deadline, plus those received through the extended deadline of October 9, 2013.

DATES: Applications must be received by VA in accordance with this NOFA no later than midnight eastern standard time on October 9, 2013.

Applications must be uploaded as a complete package into http://www.Grants.gov. Applications may not be sent by fax.

In the interest of fairness to all competing applicants, this deadline of no later than midnight October 9, 2013, is firm as to date and hour, and VA will not consider any application that is received after this final deadline.

FOR FURTHER INFORMATION CONTACT: Darren Wallace, National Coordinator, Highly Rural Transportation Grants, Veterans Transportation Program, Chief Business Office (10NB2G), 2957 Clairmont Road, Atlanta, GA 30329; (404) 828-5380 (this is not a toll-free number).

For a copy of the Application Package: Download directly from http://www.ruralhealth.va.gov/coordination-pilot/index.asp. Questions should be referred to the number above. For detailed program information and requirements, see the final rule published in the Federal Register on April 2, 2013 (78 FR 19586), http://web2.westlaw.com/find/default.wl?mt=Westlaw&db=184736&docname=UUID(I2FE3C4E09B6311E2A0B0A5A97690A455)&rp=%2ffind%2fdefault.wl&findtype=l&ordoc=0390461368&tc=-1&vr=2.0&fn=_top&sv=Split&tf=-1&referencepositiontype=S&pbc=2EB06B5C&referenceposition=19586&rs=WLW13.07 which is codified at 38 CFR 17.700 through 17.730.

Approved: September 10, 2013.
Robert C. McFetridge,
Director, Regulation Policy and Management, Office of the General Counsel, Department of Veterans Affairs.

[FR Doc. 2013-22334 Filed 9-12-13; 8:45 am]

BILLING CODE 8320-01-P